DEPARTMENT OF LABOR

Employment and Training Administration

[TA-W-51,174, TA-W-51,174A, TA-W-51,174B, and TA-W-51,174C]

Mann Edge Tool Company, Assembly and Shipping Division, Lewistown, PA; Mann Edge Tool Company, Forge Division, Lewistown, PA; American Hickory Corporation, a Wholly Owned Subsidiary of Mann Edge Tool Company, Lewistown, PA; White Container Corporation, a Wholly Owned Subsidiary of Mann Edge Tool Company, Lewiston, PA; Notice of Termination of Investigation

Pursuant to section 221 of the Trade Act of 1974, as amended, an investigation was initiated on March 17, 2003 in response to a worker petition filed by a company official on behalf of workers at Mann Edge Tool Company, Assembly and Shipping Division, Lewistown, Pennsylvania (TA-W-51,174), Mann Edge Tool Company, Forge Division, Lewistown, Pennsylvania (TA-W-51,174A), American Hickory Corporation, a wholly-owned subsidiary of Mann Edge Tool Company, Lewistown, Pennsylvania (TA-W-51,174B), and White Container Corporation, a wholly-owned subsidiary of Mann Edge Tool Company, Lewistown, Pennsylvania (TA-W-51,174C).

The petitioner has requested that the petition be withdrawn. Consequently, further investigation would serve no purpose and the investigation has been terminated.

Signed at Washington, DC, this 25th day of April, 2003.
Linda G. Poole,
Certifying Officer, Division of Trade Adjustment Assistance.

[FR Doc. 03-11553 Filed 5-8-03; 8:45 am]

BILLING CODE 4510-30-P